COMMISSION ON CIVIL RIGHTS

Notice of Public Meeting of the Wisconsin Advisory Committee To Prepare for an Updated Hearing on Hate Crimes in the State

AGENCY: U.S. Commission on Civil Rights.

ACTION: Announcement of meeting.

SUMMARY: Notice is hereby given, pursuant to the provisions of the rules and regulations of the U.S. Commission on Civil Rights (Commission) and the Federal Advisory Committee Act that the Wisconsin Advisory Committee (Committee) will hold a meeting on Wednesday, March 16, 2016, at 2:00 p.m. CST for the purpose of preparing a public hearing to receive current testimony on hate crime in the state.

This meeting is open to the public through the following toll-free call-in number: 888-438-5524, conference ID: 4234857. Any interested member of the public may call this number and listen to the meeting. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-977-8339 and providing the Service with the conference call number and conference ID number.

Member of the public are also invited and welcomed to make statements during the scheduled open comment period. In addition, members of the public may submit written comments; the comments must be received in the regional office within 30 days following the meeting. Written comments may be mailed to the Regional Programs Unit, U.S. Commission on Civil Rights, 55 W. Monroe St., Suite 410, Chicago, IL 60615. They may also be faxed to the Commission at (312) 353-8324, or emailed to Carolyn Allen at callen@usccr.gov. Persons who desire additional information may contact the Regional Programs Unit at (312) 353-8311.

Records and documents discussed during the meeting will be available for public viewing prior to and after the meeting at https://database.faca.gov/committee/meetings.aspx?cid=282 and clicking on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda

I. Welcome and Introductions—Naheed Bleecker, Chair

II. Hate Crimes and Civil Rights in Wisconsin—WI Advisory Committee

• Preparatory discussion

III. Future Plans and Actions—WI Advisory Committee

IV. Open Comment—Public Participation

V. Adjournment

DATES: The meeting will be held on Wednesday, March 16, 2016, at 2:00 p.m. CST.

Public Call Information: Dial: 888-438-5524, Conference ID: 4234857.

FOR FURTHER INFORMATION CONTACT: Melissa Wojnaroski, DFO, at 312-353-8311 or mwojnaroski@usccr.gov.

Dated: February 12, 2016.
David Mussatt,
Chief Regional Programs Unit.

[FR Doc. 2016-03439 Filed 2-18-16; 8:45 am]

BILLING CODE 6335-01-P